DEPARTMENT OF AGRICULTURE

Food and Nutrition Service

Summer Food Service Program; 2023 Reimbursement Rates; Correction

AGENCY: Food and Nutrition Service, USDA.

ACTION: Notice; correction.

SUMMARY: The Food and Nutrition Service published a document in the Federal Register of January 6, 2023, concerning reimbursement rates for meals served in the Summer Food Service Program for Children. The document contained an incorrect table heading.

FOR FURTHER INFORMATION CONTACT: Mike Rizzo 703-305-4364.

SUPPLEMENTARY INFORMATION: In the January 6, 2023, notice originally published in the Federal Register, the heading in the table with the combined reimbursement rates ran with the incorrect year. The entire table is being reproduced in this correction for convenience.

Correction

In the Federal Register issue of January 6, 2023, in FR Doc 88-1039, on page 1041 make the following correction:

On page 1041, the table heading “2022 Reimbursement Rates (Combined)” should read “2023 Reimbursement Rates (Combined).”

2023 Reimbursement Rates (Combined)

Cynthia Long,
Administrator, Food and Nutrition Service.

[FR Doc. 2023-00933 Filed 1-18-23; 8:45 am]

BILLING CODE 3410-30-P